DEPARTMENT OF DEFENSE

Department of the Navy

Extension of Public Comment Period for the Environmental Impact Statement for the Proposed Naval Base Coronado Coastal Campus, San Diego, CA

AGENCY: Department of the Navy, DoD.

ACTION: Notice.

SUMMARY: A notice of availability was published in the Federal Register by the U.S. Environmental Protection Agency on June 29, 2012 (77 FR 38781) for the Department of the Navy's Notice of Intent to prepare an Environmental Impact Statement (EIS) for the proposed Naval Base Coronado Coastal Campus in San Diego, California. The public scoping period ends on July 30, 2012. This notice announces a 15-day extension of the public scoping period until August 14, 2012.

FOR FURTHER INFORMATION CONTACT: Naval Base Coronado Coastal Campus EIS Project Manager, Attn: Ms. Teresa Bresler, 2730 McKean Street, Bldg. 291, San Diego, CA 92136.

SUPPLEMENTARY INFORMATION: This notice announces a 15-day extension of the public scoping period until August 14, 2012. Comments may be submitted in writing to Naval Base Coronado Coastal Campus EIS Project Manager, Attn: Ms. Teresa Bresler, 2730 McKean Street, Bldg. 291, San Diego, CA 92136. Comments may also be submitted via the EIS Web site at www.nbccoastalcampuseis.com. All written comments must be postmarked or received (online) by August 14, 2012, to ensure they become part of the official record.

Dated: July 24, 2012.
C.K. Chiappetta,
Lieutenant Commander, Office of the Judge Advocate General, U.S. Navy, Federal Register Liaison Officer.

[FR Doc. 2012-18646 Filed 7-30-12; 8:45 am]

BILLING CODE 3810-FF-P